DEPARTMENT OF COMMERCE

National Oceanic and Atmospheric Administration

[RTID 0648-XA719]

Endangered and Threatened Species; Take of Anadromous Fish

AGENCY: National Marine Fisheries Service (NMFS), National Oceanic and Atmospheric Administration (NOAA), Department of Commerce.

ACTION: Notice; issuance of scientific research permit.

SUMMARY: Notice is hereby given that NMFS has issued a scientific research permit (Permit 18761-2R) to the University of California, Santa Cruz, under the Endangered Species Act (ESA). The research is intended to increase knowledge of black abalone listed under the ESA and to help guide management and conservation efforts.

ADDRESSES: Because all West Coast NMFS offices are currently closed, the permit and related documents are only available for review upon written request via email to nmfs.wcr-apps@noaa.gov (please include the permit number in the subject line of the email).

FOR FURTHER INFORMATION CONTACT: Rob Clapp, Portland, OR (phone: 503-231-2314, fax: 503-230-5441, email: Robert.Clapp@noaa.gov).

SUPPLEMENTARY INFORMATION: Notice was published in the Federal Register on July 17, 2020, that a request for a permit renewal had been submitted by the University of California, Santa Cruz (UCSC). To locate the Federal Register notice that announced our receipt of the application and a complete description of the research, go to www.federalregister.gov and search on the permit number and Federal Register notice information provided in the table below.

Table 1—Issued Permits
Permit No. | RTID | Applicant | Previous Federal Register notice | Issuance date
18761-2R | 0648-XA286 | University of California, Santa Cruz—Long Marine Laboratory, 100 Shaffer Road, Santa Cruz, CA 95060 (Responsible Party: Peter Raimondi) | 85 FR 43540; July 17, 2020 | November 12, 2020.

In compliance with the National Environmental Policy Act of 1969 (42 U.S.C. 4321 et seq.), a final determination has been made that the activities proposed are categorically excluded from the requirement to prepare an environmental assessment or environmental impact statement.

Authority

Scientific research permits are issued in accordance with section 10(a)(1)(A) of the ESA (16 U.S.C. 1531 et seq.) and regulations governing listed fish and wildlife permits (50 CFR parts 222-226). NMFS issues permits based on finding that such permits: (1) Are applied for in good faith; (2) if granted and exercised, would not operate to the disadvantage of the listed species that are the subject of the permit; and (3) are consistent with the purposes and policy of section 2 of the ESA. The authority to take listed species is subject to conditions set forth in the permits.

Dated: December 10, 2020.
Angela Somma,
Chief, Endangered Species Division, Office of Protected Resources, National Marine Fisheries Service.

[FR Doc. 2020-27577 Filed 12-14-20; 8:45 am]

BILLING CODE 3510-22-P